DEPARTMENT OF THE TREASURY

Office of Foreign Assets Control

Sanctions Action Pursuant to an Executive Order Issued on September 23, 2001, Titled “Blocking Property and Prohibiting Transactions With Persons Who Commit, Threaten To Commit, or Support Terrorism”

AGENCY: Office of Foreign Assets Control, Treasury.

ACTION: Notice.

SUMMARY: The Department of the Treasury's Office of Foreign Assets Control (OFAC) is publishing the name of one individual that has been placed on OFAC's Specially Designated Nationals and Blocked Persons (SDN) List whose property and interests in property are blocked pursuant to an executive order issued on September 23, 2001, titled “Blocking Property and Prohibiting Transactions With Persons Who Commit, Threaten To Commit, or Support Terrorism.”

DATES: OFAC's action described in this notice was effective on June 12, 2017.

FOR FURTHER INFORMATION CONTACT: Associate Director for Global Targeting, tel.: 202-622-2420, Assistant Director for Sanctions Compliance & Evaluation, tel.: 202-622-2490, Assistant Director for Licensing, tel.: 202-622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On June 12, 2017, OFAC blocked the property and interests in property of the following one individual pursuant to E.O. 13224 of September 23, 2001, “Blocking Property and Prohibiting Transactions With Persons Who Commit, Threaten To Commit, or Support Terrorism” (E.O. 13224):

Individual

1. AL-JABURI, Attallah Salman 'Abd Kafi (a.k.a. AL JABURI, Atallah Salman Kafi; a.k.a. ALAKT, Ataullah Salman; a.k.a. AL-JABURI, 'Atallah Salman Kafi; a.k.a. AL-JABURI, 'Attallah Salman 'Abd al-Kafi; a.k.a. AL-KAFI, 'Attallah Salman 'Abd; a.k.a. KAFI, 'Ataalla Salman 'Abd; a.k.a. KAFI, 'Ataallah Salman; a.k.a. KAFI, Atallah Salman Abd; a.k.a. “ABU HAQI”), Hawi al-Arishah Village, Hawijah District, Kirkuk Province, Iraq; Hawijah District, Kirkuk Province, Iraq; Rumanah Village, Kirkuk Province, Iraq; DOB 01 Jan 1973; POB Iraq; citizen Iraq; Gender Male (individual) [SDGT] (Linked To: ISLAMIC STATE OF IRAQ AND THE LEVANT). Designated pursuant to section 1(c) of E.O. 13224 for acting for or on behalf of the Islamic State of Iraq and Levant (ISIL), an entity designated pursuant to E.O. 13224. Also designated pursuant to section 1(d)(i) of E.O. 13224 for assisting in, sponsoring, or providing financial, material, or technological support for, or financial or other services to or in support of, ISIL.

Dated: June 12, 2017.
Andrea Gacki,
Acting Director, Office of Foreign Assets Control.

[FR Doc. 2017-12472 Filed 6-15-17; 8:45 am]

BILLING CODE 4810-AL-P